DEPARTMENT OF HOMELAND SECURITY

Coast Guard

33 CFR Part 117

[Docket No. USCG-2014-0910]

Drawbridge Operation Regulation; Houma Navigation Canal, Houma, Terrebonne Parish, LA

AGENCY: Coast Guard, DHS.

ACTION: Notice of temporary deviation from regulations.

SUMMARY: The Coast Guard has issued a temporary deviation from the operating schedule that governs the SR 661 Swing Bridge across the Houma Navigation Canal, mile 36.0, in Houma, Terrebonne Parish, Louisiana. This deviation allows the bridge to remain closed to navigation for up to four hours at a time during daylight hours for the purpose of conducting necessary maintenance and repairs to the drawbridge.

DATES: This deviation is effective from October 23, 2014 to January 7, 2015.

ADDRESSES: The docket for this deviation, [USCG-2014-0910] is available at http://www.regulations.gov. Type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Jim Wetherington, Bridge Administration Branch, Coast Guard, telephone (504) 671-2128, email james.r.wetherington@uscg.mil. If you have questions on viewing the docket, call Cheryl Collins, Program Manager, Docket Operations, telephone 202-366-9826.

SUPPLEMENTARY INFORMATION: The Louisiana Department of Transportation and Development (LDOTD) requested a temporary deviation from the operating schedule of the SR 661 Swing Bridge across the Houma Navigation Canal, mile 36.0, in Houma, Terrebonne Parish, Louisiana. The deviation was requested for the purpose of conducting necessary repairs, including reinstallation of structural and mechanical components of the bridge. Exact dates for the maintenance and repairs requiring this deviation are not yet known. Local Notices to Mariners (LNM) and Broadcast Notices to Mariners (BNM) will provide at least 48 hours notification before the deviation begins.

In accordance with 33 CFR 117.455, the bridge currently opens on signal; except that, the draw need not open for the passage of vessels Monday through Friday except Federal holidays from 6:30 a.m. to 8:30 a.m., from 11:45 a.m. to 12:15 p.m., from 12:45 p.m. to 1:15 p.m., and from 4:30 p.m. until 6 p.m. This deviation allows the draw of the SR 661 Swing Bridge across the Houma Navigation Canal, mile 36.0, in Houma, Terrebonne Parish, Louisiana, to remain closed to navigation for up to four hours each day between 6 a.m. and 8 p.m. for a 17 day period. This 17 day period will occur sometime between October 23, 2014 and January 7, 2015. During this deviation, the bridge will remain open to navigation from 8 p.m. through 6 a.m. daily. During these closures, the contractor will make every effort to minimize the delays to mariners as well as maintain the bridge in the open-to-navigation position all times when that repair work is not being conducted. These repairs require the bridge to be removed from power and operated by air tuggers in order for the work to be done. These repairs are necessary for the continued operation of the bridge.

The vertical clearance of the swing bridge in the closed-to-navigation position is 1.0 foot and unlimited in the open-to-navigation position. Navigation on the waterway consists primarily of commercial tugs and recreational craft. Vessels able to pass through the bridge in the closed positions may do so at any time. The bridge will be able to open for emergencies and there is no immediate alternate route. The Coast Guard will provide waterway users the dates and times affected through LNMs and BNMs throughout this temporary change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: October 2, 2014.
David M. Frank,
Bridge Administrator.

[FR Doc. 2014-25006 Filed 10-20-14; 8:45 am]

BILLING CODE 9110-04-P